DEPARTMENT OF THE INTERIOR

National Park Service

[NPS-NCR-GWMP-16260; PX.XGWMP0400.00.1]

Final Environmental Impact Statement for the Dyke Marsh Restoration and Long-term Management Plan, George Washington Memorial Parkway, Virginia

AGENCY: National Park Service, Interior.

ACTION: Notice of Availability.

SUMMARY: The National Park Service (NPS) announces the availability of a Final Environmental Impact Statement (FEIS) for the Dyke Marsh Restoration and Long-term Management Plan at the George Washington Memorial Parkway (GWMP), Virginia. The FEIS provides a systematic analysis of alternatives for the restoration and long-term management of the tidal freshwater marsh and other associated wetland habitats lost or impacted in the Dyke Marsh Preserve on the Potomac River.

DATES: The NPS will execute a Record of Decision (ROD) no sooner than 30 days from the date of publication of the Notice of Availability of the FEIS by the Environmental Protection Agency.

ADDRESSES: The FEIS is available in electronic format online at the NPS's PEPC Web site (http://parkplanning.nps.gov/GWMP). A limited number of hard copies of the FEIS are available at GWMP Park Headquarters, 700 George Washington Memorial Parkway, Turkey Run Park, McLean, Virginia 22101. You may also request a hard copy by contacting Alex Romero, Superintendent of GWMP by telephone at (703) 289-2500.

FOR FURTHER INFORMATION CONTACT: Alex Romero, Superintendent, 700 George Washington Memorial Parkway, Turkey Run Park Headquarters, McLean, Virginia 22101; telephone (703) 289-2500.

SUPPLEMENTARY INFORMATION: The FEIS responds to, and incorporates as appropriate, agency and public comments received on the Draft Plan/Environmental Impact Statement (draft plan/EIS) which was available for public review from January 15, 2014 to March 18, 2014. A public meeting was held on February 26, 2014, to gather input on the draft plan/EIS. Over three hundred pieces of correspondence were received during the public review period. Agency and public comments and NPS responses are provided in Appendix D of the FEIS.

The FEIS analyzes two action alternatives and the no action alternative, as described below.

Alternative A: No Action—under this alternative, there would be no restoration. Current management of the marsh would continue, which includes providing basic maintenance related to the Haul Road, control of nonnative invasive plant species, ongoing interpretive and environmental education activities, scientific research projects, boundary marking, and enforcement of existing regulations. There would be no manipulation of the marsh other than emergency, safety-related, or limited improvements or maintenance actions. The destabilized marsh would continue to erode at an accelerated rate.

Alternative B: Hydrologic Restoration and Minimal Wetland Restoration—under alternative B, the focus is on the most essential actions to reestablish hydrologic conditions that shield the marsh from erosive currents and protect the Hog Island Gut channel and channel wall. A breakwater structure would be constructed on the south end of the marsh, in alignment with the northernmost extent of the historic promontory, and wetlands would be restored to strategic areas where the water is less than 4 feet deep. This alternative also includes fill of some deep channel areas near the breakwater. The final element of this alternative is the reestablishment of hydrologic connections to the inland side of the Haul Road to restore bottomland swamp forest areas that were cut off when the Haul Road was constructed. Approximately 30 acres west of the Haul Road could be influenced by tidal flows as a result. These actions would not necessarily happen in any particular order, and may be dictated by available funds. However, it is assumed that the breakwater would be constructed first. This alternative would create approximately 70 acres of various new wetland habitats and allow the continued natural accretion of soils and establishment of wetlands given the new hydrologic conditions.

Alternative C: Hydrologic Restoration and Fullest Possible Extent of Wetland Restoration (NPS Preferred Alternative)—under alternative C, the marsh would be restored in a phased approach up to the historic boundary of the marsh and other adjacent areas within NPS jurisdictional boundaries. Phased restoration would continue until a sustainable marsh is achieved and the overall goals of the project are met. The historic boundaries lie between the historic promontory and Dyke Island, the triangular island off the end of the Haul Road. The outer edges of the containment cell structures would be placed at the park boundary in the river.

The initial phase of this alternative would first establish a breakwater structure at the southern alignment of the historic promontory to provide immediate protection to Dyke Marsh from erosion. After the breakwater is established, the deep channel areas north of the historic promontory would be filled within the NPS boundary, and the marsh would be restored to the 4-foot contour at strategic locations to further reduce the risk of erosion and storm surges and promote sedimentation within the existing marsh. Afterwards, two cells would be constructed along the northern edge of the breakwater, restoring the original extent of the promontory's land mass.

All subsequent phases would establish containment cells out no further than the historic marsh boundary. The location of these cells would be prioritized based on the most benefits the specific locations could provide to the existing marsh. The timing of these subsequent phases and the size and number of cells built during these phases would be dependent upon available funds and materials.

In addition to the construction of containment cells, tidal guts would be cut into the restored marsh area that would be similar to the historical flow channels of the original marsh. This alternative, like Alternative B, would also introduce breaks in the Haul Road, returning tidal flows to approximately 30 acres west of the Haul Road, which would help to re-establish the historic swamp forest originally found on the site. Additional wetland may be restored south of the new breakwater to fill out the southernmost historic extent of the marsh. This area would not be protected from storms, and would be one of the last features implemented. In total, under this alternative, approximately 180 acres of various wetland habitats could be created.

Dated: July 23, 2014.
Lisa A. Mendelson-Ielmini,
Acting Regional Director, National Park Service, National Capital Region.

[FR Doc. 2014-24021 Filed 10-9-14; 8:45 am]

BILLING CODE 4310-DL-P